SMALL BUSINESS ADMINISTRATION

[Disaster Declaration #16093 and #16094; LOUISIANA Disaster Number LA-00094]

Presidential Declaration Amendment of a Major Disaster for Public Assistance Only for the State of Louisiana

AGENCY: U.S. Small Business Administration.

ACTION: Amendment 1.

SUMMARY: This is an amendment of the Presidential declaration of a major disaster for Public Assistance Only for the State of Louisiana (FEMA-4458-DR), dated 08/27/2019.

Incident: Hurricane Barry.

Incident Period: 07/10/2019 through 07/15/2019.

DATES: Issued on 09/30/2019.

Physical Loan Application Deadline Date: 10/28/2019.

Economic Injury (EIDL) Loan Application Deadline Date: 05/27/2020.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for Private Non-Profit organizations in the State of LOUISIANA, dated 08/27/2019, is hereby amended to include the following areas as adversely affected by the disaster.

Primary Parishes: Lafayette.

All other information in the original declaration remains unchanged.

(Catalog of Federal Domestic Assistance Number 59008)

James Rivera,
Associate Administrator for Disaster Assistance.

[FR Doc. 2019-21920 Filed 10-7-19; 8:45 am]

BILLING CODE 8026-03-P